DEPARTMENT OF TRANSPORTATION

Federal Motor Carrier Safety Administration

[Docket No. FMCSA-2025-0009]

Qualification of Drivers; Exemption Applications; Epilepsy and Seizure Disorders

AGENCY: Federal Motor Carrier Safety Administration (FMCSA), Department of Transportation (DOT).

ACTION: Notice of applications for exemption; request for comments.

SUMMARY: FMCSA announces receipt of applications from 52 individuals for an exemption from the prohibition in the Federal Motor Carrier Safety Regulations (FMCSRs) against persons with a clinical diagnosis of epilepsy or any other condition that is likely to cause a loss of consciousness or any loss of ability to control a commercial motor vehicle (CMV) to drive in interstate commerce. If granted, the exemptions would enable these individuals who have had one or more seizures and are taking anti-seizure medication to operate CMVs in interstate commerce.

DATES: Comments must be received on or before January 20, 2026.

ADDRESSES: You may submit comments identified by Docket No. FMCSA-2025-0009 using any of the following methods:

• Federal eRulemaking Portal: Go to www.regulations.gov, insert the docket number (FMCSA-2025-0009) in the keyword box and click “Search.” Next, choose the only notice listed, and click on the “Comment” button. Follow the online instructions for submitting comments.

• Mail: Dockets Operations; U.S. Department of Transportation, 1200 New Jersey Avenue SE, West Building Ground Floor, Washington, DC 20590-0001.

• Hand Delivery: West Building Ground Floor, 1200 New Jersey Avenue SE, Washington, DC 20590-0001 between 9 a.m. and 5 p.m. ET Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine Hydock, Chief, Medical Programs Division, FMCSA, DOT, 1200 New Jersey Avenue SE, Washington, DC 20590-0001, (202) 366-4001, fmcsamedical@dot.gov. Office hours are 8:30 a.m. to 5 p.m. ET Monday through Friday, except Federal holidays. If you have questions regarding viewing or submitting material to the docket, contact Dockets Operations, (202) 366-9826.

SUPPLEMENTARY INFORMATION:

I. Public Participation

A. Submitting Comments

If you submit a comment, please include the docket number for this notice (Docket No. FMCSA-2025-0009), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2025-0009. Next, choose the only notice listed, click the “Comment” button, and type your comment into the text box on the following screen. Choose whether you are submitting your comment as an individual or on behalf of a third party and then submit.

If you submit your comments by mail or hand delivery, submit them in an unbound format, no larger than 8½ by 11 inches, suitable for copying and electronic filing. FMCSA will consider all comments and material received during the comment period.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments

To view comments, go to www.regulations.gov, insert the docket number (FMCSA-2025-0009) in the keyword box and click “Search.” Next, choose the only notice listed, and click “Browse Comments.” If you do not have access to the internet, you may view the docket online by visiting Dockets Operations on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

D. Privacy Act

In accordance with 49 U.S.C. 31315(b)(6), DOT solicits comments from the public on the exemption request. DOT posts these comments, including any personal information the commenter provides, to www.regulations.gov, as described in the system of records notice DOT/ALL-14 FDMS (Federal Docket Management System), which can be reviewed under the “Department Wide System of Records Notices” link at https://www.transportation.gov/individuals/privacy/privacy-act-system-records-notices. The comments are posted without edit and are searchable by the name of the submitter.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)). FMCSA grants medical exemptions from the FMCSRs for a 2-year period to align with the maximum duration of a driver's medical certification.

III. Background

The physical qualification standard for drivers regarding seizures and loss of consciousness provides that a person is physically qualified to drive a CMV if that person has “no established medical history or clinical diagnosis of epilepsy or any other condition which is likely to cause the loss of consciousness or any loss of ability to control” a CMV (49 CFR 391.41(b)(8)). To assist in applying this standard, FMCSA publishes guidance for medical examiners (ME) in the form of medical advisory criteria in Appendix A to 49 CFR part 391.¹ In 2007, FMCSA published recommendations from a Medical Expert Panel (MEP) that FMCSA tasked to review the existing seizure disorder guidelines for MEs.² The MEP performed a comprehensive, systematic literature review, including evidence available at the time. The MEP issued recommended criteria to evaluate whether an individual with a history of epilepsy, a single unprovoked seizure, or a provoked seizure should be allowed to drive a CMV.

¹ 49 CFR part 391, App.A.II.G, available at https://www.ecfr.gov/current/title-49/subtitle-B/chapter-III/subchapter-B/part-391/appendix-Appendix%20A%20to%20Part%20391.

² “Expert Panel Recommendations, Seizure Disorders and Commercial Motor Vehicle Driver Safety,” Medical Expert Panel (Oct. 15, 2007), available at https://www.fmcsa.dot.gov/sites/fmcsa.dot.gov/files/2020-04/Seizure-Disorders-MEP-Recommendations-v2-prot%2010152007.pdf.

On January 15, 2013, FMCSA began granting exemptions, on a case-by-case basis, to individual drivers from the physical qualification standard regarding seizures and loss of consciousness in 49 CFR 391.41(b)(8) (78 FR 3069). The Agency considers the medical advisory criteria, the 2007 MEP recommendations, any public comments received, and each individual's medical information and driving record in deciding whether to grant the exemption.

The 52 individuals listed in this notice have requested an exemption from the epilepsy and seizure disorders prohibition in 49 CFR 391.41(b)(8). Accordingly, the Agency will evaluate the qualifications of each applicant to determine whether granting the exemption will achieve the required level of safety mandated by statute.

IV. Qualifications of Applicants

Matthew Archer

Matthew Archer is a 31-year-old class R license holder in Colorado. He has a history of epilepsy and has been seizure free since January 4, 2015. He takes an anti-seizure medication with the dosage and frequency remaining the same since February 10, 2025. His physician states that they are supportive of him receiving an exemption.

Scott Bair

Scott Bair is a 24-year-old class C license holder in California. He has a history of epilepsy and has been seizure free since October 1, 2021. He takes anti-seizure medication with the dosage and frequency remaining the same since 2021. His physician states that they are supportive of him receiving an exemption.

Rosemarie Black

Rosemarie Black is a 35-year-old class D license holder in Alaska. She has a history of epilepsy and has been seizure free since July 2, 2019. She takes anti-seizure medication with the dosage and frequency remaining the same since 2019. Her physician states that they are supportive of her receiving an exemption.

Roger Boll

Roger Boll is a 27-year-old class A commercial driver's license (CDL) holder in Missouri. He has a history of juvenile myoclonic epilepsy and has been seizure free since July 2020. He takes an anti-seizure medication with the dosage and frequency remaining the same since July 13, 2020. His physician states that they are supportive of him receiving an exemption.

Stephen Bridges

Stephen Bridges is a 32-year-old class D driver's license holder in South Carolina. He has a history of complex partial epilepsy and has been seizure free since May 10, 2020. He takes anti-seizure medication with the dosage and frequency remaining the same since 2020. His physician states that they are supportive of him receiving an exemption.

William Brock

William Brock is a 29-year-old class D driver's license holder in Tennessee. He has a history of complex partial seizures and has been seizure free since May 3, 2022. He takes anti-seizure medication with the dosage and frequency remaining the same since November 2, 2022. His physician states that they are supportive of him receiving an exemption.

Cory Broyles

Cory Broyles is a 36-year-old class AM CDL holder in Georgia. He has a history of epilepsy and has been seizure free since August 2015. He takes an anti-seizure medication with the dosage and frequency remaining the same since February 2025. His physician states that they are supportive of him receiving an exemption.

Derick Buxton

Derick Buxton is a 33-year-old class C driver's license holder in Pennsylvania. He has a history of left frontal anaplastic astrocytoma and has been seizure free since March 19, 2022. He takes anti-seizure medication with the dosage and frequency remaining the same since 2024. His physician states that they are supportive of him receiving an exemption.

Luis Castillo

Luis Castillo is a 56-year-old class A CDL holder in Colorado. He has a history of unspecified convulsions and has been seizure free since January 24, 2025. He takes anti-seizure medication with the dosage and frequency remaining the same since 2025. His physician states that they are supportive of him receiving an exemption.

Mandel Corbin

Mandel Corbin is a 56-year-old class CB CDL holder in Delaware. He has a history of nocturnal seizure disorder and has been seizure free since October 9, 2023. He takes an anti-seizure medication with the dosage and frequency remaining the same since October 9, 2023. His physician states that they are supportive of him receiving an exemption.

Hector Corrales

Hector Corrales is a 49-year-old class C driver's license holder in Pennsylvania. He has a history of generalized epilepsy and has been seizure free since September 2014. He takes anti-seizure medication with the dosage and frequency remaining the same since October 2023. His physician states that they are supportive of him receiving an exemption.

Mason Cross

Mason Cross is a 22-year-old class DV driver's license holder in Alabama. He has a history of idiopathic epilepsy and has been seizure free since May 21, 2021. He takes anti-seizure medication with the dosage and frequency remaining the same since July 28, 2021. His physician states that they are supportive of him receiving an exemption.

Shantel Dalton

Shantel Dalton is a 47-year-old regular operator license holder in Indiana. She has a history of an unprovoked seizure and has been seizure free since August 9, 2021. She takes an anti-seizure medication with the dosage and frequency remaining the same since 2021. Her physician states that they are supportive of her receiving an exemption.

Brandon Daniel

Brandon Daniel is a 51-year-old class A license holder in Washington. He has a history of atypical meningioma and has been seizure free since October 6, 2023. He takes anti-seizure medication with the dosage and frequency remaining the same since 2023. His physician states that they are supportive of him receiving an exemption.

William Dearing

William Dearing is a 40-year-old class A CDL holder in Maryland. He has a history of epileptic seizures and has been seizure free since September 22, 2024. He takes an anti-seizure medication with the dosage and frequency remaining the same since September 23, 2024. His physician states that they are supportive of him receiving an exemption.

Devante Dunkle

Devante Dunkle is a 28-year-old class D license holder in Alabama. He has a history of epilepsy and has been seizure free since December 2022. He takes anti-seizure medication with the dosage and frequency remaining the same since 2015. His physician states that they are supportive of him receiving an exemption.

Jeffrey Eggleston

Jeffrey Eggleston is a 59-year-old class CM1 license holder in California. He has a history of intracranial hemorrhage and has been seizure free since December 23, 2022. He takes anti-seizure medication with the dosage and frequency remaining the same since January 2, 2025. His physician states that they are supportive of him receiving an exemption.

Loren Ehrich

Loren Ehrich is an 80-year-old class A CDL holder in Iowa. He has a history of nocturnal seizure and has been seizure free since February 5, 2024. He takes anti-seizure medication with the dosage and frequency remaining the same since February 2024. His physician states that they are supportive of him receiving an exemption.

Roberto Faltz

Roberto Faltz is a 55-year-old class C CDL holder in New Jersey. He has a history of localization related seizure and has been seizure free since February 15, 2025. He takes anti-seizure medication with the dosage and frequency remaining the same since February 15, 2025. His physician states that they are supportive of him receiving an exemption.

John Freitag

John Freitag is a 39-year-old class F license holder in Missouri. He has a history of seizure disorder and has been seizure free since February 2021. He takes an anti-seizure medication with the dosage and frequency remaining the same for over 20 years. His physician states that they are supportive of him receiving an exemption.

Jonna Galicia

Jonna Galicia is a 22-year-old class C license holder in California. She has a history of complex partial epilepsy and has been seizure free since June 20, 2022. She takes an anti-seizure medication with the dosage and frequency remaining the same since July 6, 2022. Her physician states that they are supportive of him receiving an exemption.

Barry Harmon

Barry Harmon is a 67-year-old class D license holder in Kentucky. He has a history of seizures and has been seizure free since February 10, 2024. He takes an anti-seizure medication with the dosage and frequency remaining the same since February 2024. His physician states that they are supportive of him receiving an exemption.

Anisha Hemby

Anisha Hemby is a 46-year-old class B CDL holder in North Carolina. She has a history of seizure disorder and has been seizure free since October 21, 2024. She takes anti-seizure medication with the dosage and frequency remaining the same since October 21, 2024. Her physician states that they are supportive of her receiving an exemption.

John Kelley

John Kelley is a 45-year-old class DM regular license holder in Wisconsin. He has a history of seizures due to an oligodendroglioma and has been seizure free since June 15, 2019. He takes an anti-seizure medication with the dosage and frequency remaining the same since December 15, 2021. His physician states that they are supportive of him receiving an exemption.

Shane Kreh

Shane Kreh is a 23-year-old class C license holder in Maryland. He has a history of juvenile myoclonic epilepsy and has been seizure free since 2018. He takes anti-seizure medication with the dosage and frequency remaining the same since 2018. His physician states that they are supportive of him receiving an exemption.

Freddy Lee

Freddy Lee is a 57-year-old class AM CDL holder in Alabama. He has a history of epilepsy and has been seizure free since October 2021. He takes anti-seizure medication with the dosage and frequency remaining the same since October 2021. His physician states that they are supportive of him receiving an exemption.

William London

William London is a 48-year-old class A CDL holder in California. He has a history of epilepsy and has been seizure free since June 2020. He takes an anti-seizure medication with the dosage and frequency remaining the same since June 2020. His physician states that they are supportive of him receiving an exemption.

Derrick Magwood

Derrick Magwood is a 40-year-old class E license holder in Florida. He has a history of provoked seizure and has been seizure free since 2019. He takes an anti-seizure medication with the dosage and frequency remaining the same since 2019. His physician states that they are supportive of him receiving an exemption.

Clifton Marlow

Clifton Marlow is a 47-year-old class B CDL holder in Washington, DC. He has a history of meningitis and has been seizure free since October 2017. He takes anti-seizure medication with the dosage and frequency remaining the same since August 8, 2024. His physician states that they are supportive of him receiving an exemption.

Christian Martinez

Christian Martinez is a 47-year-old class D license holder in New Jersey. He has a history of seizure disorder and has been seizure free since 2022. He takes an anti-seizure medication with the dosage and frequency remaining the same since December 3, 2022. His physician states that they are supportive of him receiving an exemption.

Stephen Mazzali

Stephen Mazzali is a 72-year-old class A CDL holder in Idaho. He has a history of non-intractable epilepsy and has been seizure free since November 2020. He takes an anti-seizure medication with the dosage and frequency remaining the same since November 2020. His physician states that they are supportive of him receiving an exemption.

Vincenzo Mazzella

Vincenzo Mazzella is a 31-year-old class D license holder in New Jersey. He has a history of juvenile myoclonic seizures and has been seizure free since April 2016. He takes an anti-seizure medication with the dosage and frequency remaining the same since January 27, 2025. His physician states that they are supportive of him receiving an exemption.

Antonio Moreno

Antonio Moreno is a 48-year-old class A CDL holder in Nevada. He has a history of complex partial epilepsy and has been seizure free since December 8, 2022. He takes an anti-seizure medication with the dosage and frequency remaining the same since January 25, 2024. His physician states that they are supportive of him receiving an exemption.

Eugene Nuss

Eugene Nuss is a 63-year-old class A CDL holder in Nebraska. He has a history of focal seizure disorder and has been seizure free since September 25, 2023. He takes anti-seizure medication with the dosage and frequency remaining the same since 2023. His physician states that they are supportive of him receiving an exemption.

Caleb Peavler

Caleb Peavler is a 28-year-old class D license holder in Kentucky. He has a history of seizure disorder and has been seizure free since June 2018. He takes an anti-seizure medication with the dosage and frequency remaining the same since Spring 2023. His physician states that they are supportive of him receiving an exemption.

Daiwik Rana

Daiwik Rana is a 24-year-old class D license holder in South Carolina. He has a history of epilepsy and has been seizure free since April 2022. He takes an anti-seizure medication with the dosage and frequency remaining the same since May 2022. His physician states that they are supportive of him receiving an exemption.

Antonio Reddick

Antonio Reddick is a 36-year-old class A CDL holder in Florida. He has a history of a single unprovoked seizure and has been seizure free since April 2022. He has never taken anti-seizure medication. His physician states that they are supportive of him receiving an exemption.

Preston Regier

Preston Regier is a 26-year-old regular driver's license holder in Indiana. He has a history of complex partial seizures and has been seizure free since May 2019. He takes anti-seizure medication with the dosage and frequency remaining the same since February 1, 2022. His physician states that they are supportive of him receiving an exemption.

Tyler Revermann

Tyler Revermann is a 29-year-old class D license holder in Minnesota. He has a history of epilepsy and has been seizure free since July 17, 2022. He takes anti-seizure medication with the dosage and frequency remaining the same since February 19, 2022. His physician states that they are supportive of him receiving an exemption.

Michael Rice

Michael Rice is a 29-year-old class C license holder in Iowa. He has a history of epilepsy and has been seizure free since July 22, 2014. He takes an anti-seizure medication with the dosage and frequency remaining the same since September 2019. His physician states that they are supportive of him receiving an exemption.

Stuart Richardson

Stuart Richardson is a 56-year-old class B CDL holder in New York. He has a history of epilepsy and has been seizure free since December 2022. He takes an anti-seizure medication with the dosage and frequency remaining the same since November 9, 2023. His physician states that they are supportive of him receiving an exemption.

Kevin Riggenbach

Kevin Riggenbach is a 49-year-old class A license holder in Ohio. He has a history of partial idiopathic epilepsy and has been seizure free since October 12, 2019. He takes an anti-seizure medication with the dosage and frequency remaining the same since October 12, 2019. His physician states that they are supportive of him receiving an exemption.

Christopher Robb

Christopher Robb is a 37-year-old class A license holder in Oregon. He has a history of epilepsy and has been seizure free since 2015. He takes an anti-seizure medication with the dosage and frequency remaining the same since 2019. His physician states that they are supportive of him receiving an exemption.

Michael Sheets

Michael Sheets is a 43-year-old class C license holder in North Carolina. He has a history of epilepsy and has been seizure free since December 2020. He takes an anti-seizure medication with the dosage and frequency remaining the same since June 15, 2021. His physician states that they are supportive of him receiving an exemption.

Bobby Simpson

Bobby Simpson is a 52-year-old class DA CDL holder in Kentucky. He has a history of a glioblastoma and has been seizure free since December 20, 2023. He takes an anti-seizure medication with the dosage and frequency remaining the same since January 4, 2024. His physician states that they are supportive of him receiving an exemption.

Timothy Stoddard

Timothy Stoddard is a 55-year-old class A CDL holder in Oregon. He has a history of focal seizure disorder and has been seizure free since February 26, 2025. He takes anti-seizure medication with the dosage and frequency remaining the same since February 26, 2025. His physician states that they are supportive of him receiving an exemption.

Carlos Tovar

Carlos Tovar is a 24-year-old class C license holder in Texas. He has a history of seizure disorder and has been seizure free since January 2, 2022. He takes an anti-seizure medication with the dosage and frequency remaining the same since November 11, 2024. His physician states that they are supportive of him receiving an exemption.

Joshua Trainum

Joshua Trainum is a 50-year-old class A CDL holder in Pennsylvania. He has a history of seizure disorder and has been seizure free since January 2018. He takes an anti-seizure medication with the dosage and frequency remaining the same since April 4, 2018. His physician states that they are supportive of him receiving an exemption.

Jose Luis Paz Vargas

Jose Luis Paz Vargas is a 62-year-old class A CDL holder in Illinois. He has a history of epilepsy and has been seizure free since November 20, 2020. He takes an anti-seizure medication with the dosage and frequency remaining the same since 2020. His physician states that they are supportive of him receiving an exemption.

Alexander Verduzco

Alexander Verduzco is a 33-year-old class A CDL holder in California. He has a history of seizure disorder and has been seizure free since December 5, 2024. He takes an anti-seizure medication with the dosage and frequency remaining the same since February 2025. His physician states that they are supportive of him receiving an exemption.

David Vreeland

David Vreeland is a 51-year-old class A CDL holder in New York. He has a history of partial epilepsy and has been seizure free since October 17, 2023. He takes an anti-seizure medication with the dosage and frequency remaining the same since 2023. His physician states that they are supportive of him receiving an exemption.

Thurston Wicklund

Thurston Wicklund is a 56-year-old class B CDL holder in Minnesota. He has a history of transient neurologic symptoms and has been seizure free since July 5, 2023. He takes anti-seizure medication with the dosage and frequency remaining the same since 2023. His physician states that they are supportive of him receiving an exemption.

V. Request for Comments

In accordance with 49 U.S.C. 31136(e) and 31315(b), FMCSA requests public comment from all interested persons on the exemption applications described in this notice. FMCSA will consider all comments received before the close of business on the closing date indicated under the DATES section of the notice.

Larry W. Minor,
Associate Administrator for Policy.

[FR Doc. 2025-23478 Filed 12-18-25; 8:45 am]

BILLING CODE 4910-EX-P